DEPARTMENT OF JUSTICE

[OMB Number 1117-0010]

Agency Information Collection Activities; Proposed eCollection eComments Requested; Submission for OMB Approval: U.S. Official Order Forms—Schedules I & II (DEA Form 222)

AGENCY: Drug Enforcement Administration, Department of Justice.

ACTION: 60-day notice.

SUMMARY: The Department of Justice (DOJ), Drug Enforcement Administration, will be submitting the following information collection request to the Office of Management and Budget (OMB) for review and approval in accordance with the Paperwork Reduction Act of 1995. The proposed information collection is published to obtain comments from the public and affected agencies.

DATES: Comments are encouraged and will be accepted for 60 days until September 15, 2014.

FOR FURTHER INFORMATION CONTACT: If you have additional comments especially on the estimated public burden or associated response time, suggestions, or need a copy of the proposed information collection instrument with instructions or additional information, please contact Erika Gehrmann, Office of Diversion Control, Drug Enforcement Administration, 8701 Morrissette Drive, Springfield, Virginia 22152.

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the Drug Enforcement Administration, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection: Extension of a currently approved collection.

2. Title of the Form/Collection: U.S. Official Order Forms—Schedules I & II

3. The agency form number, if any, and the applicable component of the Department sponsoring the collection: The form number is DEA Form 222. The applicable component within the Department of Justice is the Drug Enforcement Administration, in the Office of Diversion Control.

4. Affected public who will be asked or required to respond, as well as a brief abstract:

Primary: Business or other for-profit.

Other: Not-for-profit; State, local, or tribal government.

Abstract: The Controlled Substances Act (CSA) (21 U.S.C. 801-971) requires the Drug Enforcement Administration (DEA) to establish a closed system of distribution for substances that have a potential for abuse. Section 828 of the CSA mandates that no person may distribute a controlled substance in schedule I or II except in response to an order issued on a DEA provided form. The DEA regulations implementing 21 USC 828 can be found in 21 CFR part 1305.

5. An estimate of the total number of respondents and the amount of time estimated for an average respondent to respond: The DEA estimates that 152,609 registrants participate in this information collection, taking an estimated 6.17 hours per registrant annually.

6. An estimate of the total public burden (in hours) associated with the collection: The DEA estimates the total public burden (in hours) associated with this collection: 942,315 annual burden hours.

If additional information is required contact: Jerri Murray, Department Clearance Officer, United States Department of Justice, Justice Management Division, Policy and Planning Staff, Two Constitution Square, 145 N Street NE., 3E.405B, Washington, DC 20530.

Dated: July 14, 2014.
Jerri Murray,
Department Clearance Officer for PRA, U.S. Department of Justice.

[FR Doc. 2014-16805 Filed 7-16-14; 8:45 am]

BILLING CODE 4410-09-P